DEPARTMENT OF HEALTH AND HUMAN SERVICES

Food and Drug Administration

[Docket No. FDA-2009-E-0241]

Determination of Regulatory Review Period for Purposes of Patent Extension; ATRYN; Correction

AGENCY: Food and Drug Administration, HHS.

ACTION: Notice; correction.

SUMMARY: The Food and Drug Administration (FDA) is correcting a notice that appeared in the Federal Register of March 21, 2011 (76 FR 15323). The document announced the determination of the regulatory review period for ATRYN. The document was published with an incorrect docket number. This document corrects that error.

FOR FURTHER INFORMATION CONTACT: Joyce Strong, Office of Policy, Planning and Budget, Food and Drug Administration, 10903 New Hampshire Ave., Bldg. 32, rm. 3208, Silver Spring, MD 20993-0002, 301-796-9138.

SUPPLEMENTARY INFORMATION: In FR Doc. 2011-6509, appearing on page 15323, in the Federal Register of Monday, March 21, 2011, the following correction is made:

1. On page 15323, in the first column, in the Docket No. heading, “[Docket No. FDA-2010-E-0241]” is corrected to read “[Docket No. FDA-2009-E-0241]”.

Dated: April 8, 2011.
Leslie Kux,
Acting Assistant Commissioner for Policy.

[FR Doc. 2011-9153 Filed 4-14-11; 8:45 am]

BILLING CODE 4160-01-P